DEPARTMENT OF TRANSPORTATION

Federal Aviation Administration

14 CFR Part 39

[Docket No. 2003-SW-46-AD; Amendment 39-13708; AD 2004-13-26]

RIN 2120-AA64

Airworthiness Directives; Kaman Aerospace Corporation Model K-1200 Helicopters

AGENCY: Federal Aviation Administration, DOT.

ACTION: Final rule; request for comments.

SUMMARY: This amendment adopts a new airworthiness directive (AD) for Kaman Aerospace Corporation (Kaman) Model K-1200 helicopters. This action requires certain initial and repetitive visual inspections of the main rotor blade (blade) grips for a crack. If a crack is found, this AD requires replacing the blade grip before further flight. This amendment is prompted by an accident involving the loss of all blades because of a crack in a blade grip on the upper surface around the bolthole. The actions specified in this AD are intended to prevent failure of a blade grip, loss of a blade, and subsequent loss of control of the helicopter.

DATES: Effective July 22, 2004.

The incorporation by reference of certain publications listed in the regulations is approved by the Director of the Federal Register as of July 22, 2004.

Comments for inclusion in the Rules Docket must be received on or before September 7, 2004.

ADDRESSES: Submit comments in triplicate to the Federal Aviation Administration (FAA), Office of the Regional Counsel, Southwest Region, Attention: Rules Docket No. 2003-SW-46-AD, 2601 Meacham Blvd., Room 663, Fort Worth, Texas 76137. You may also send comments electronically to the Rules Docket at the following address: 9-asw-adcomments@faa.gov.

You may obtain the service information referenced in this AD from Kaman Aerospace Corporation, P.O. Box 2, Old Windsor Rd., Bloomfield, CT 06002-0002, telephone (888) 626-KMAX (5629), fax (880) 243-7047. You may examine this information at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

FOR FURTHER INFORMATION CONTACT: Richard Noll, Aviation Safety Engineer, Boston Aircraft Certification Office, 12 New England Executive Park, Burlington, MA 01803, telephone (781) 238-7160, fax (781) 238-7170.

SUPPLEMENTARY INFORMATION: This amendment adopts a new AD for the Kaman Model K1200 helicopters. This action requires certain initial and repetitive inspections of the blade grips. This amendment is prompted by an accident involving the loss of all blades because of a blade grip crack on the upper surface around the bolthole of one blade.

The FAA has reviewed Kaman Service Bulletin No. 109 dated October 31, 2003, which describes visually inspecting blade grips for a crack before the next flight and before the first flight of each day.

This unsafe condition is likely to exist or develop on other helicopters of the same type design. Therefore, this AD is being issued to prevent failure of a blade grip leading to loss of a blade and subsequent loss of control of the helicopter. This AD requires, before further flight, removing the paint and primer from each blade grip; and using a light and 10x power or higher magnifying glass, visually inspecting each blade grip at the top (bolt) and bottom (nut) locations for a crack around the bolthole. Also, this AD requires, before the first flight of each day, removing corrosion preventative compound from each blade grip, and using a light and 10x power or higher magnifying glass, visually inspecting each blade grip at the top (bolt) and bottom (nut) locations for a crack around the bolthole. After each inspection, if a crack is not detected, applying corrosion protection compound over the exposed area is required. If a crack is found, this AD requires replacing the blade grip before further flight. Accomplish the actions in accordance with the service bulletin described previously.

The short compliance time involved is required because the previously described critical unsafe condition can adversely affect the controllability and structural integrity of the helicopter. Therefore, before further flight, and before the first flight of each day, visually inspecting each blade grip for a crack and replacing any cracked blade grip are required, and this AD must be issued immediately.

Since a situation exists that requires the immediate adoption of this regulation, it is found that notice and opportunity for prior public comment hereon are impracticable, and that good cause exists for making this amendment effective in less than 30 days.

The FAA estimates that this AD will affect 23 helicopters. The initial inspection of the blade grip will take approximately 2 work hours, and the daily inspection will take approximately ½ work hour to do at an average labor rate of $65 per work hour. Based on these figures, we estimate the total cost impact of the AD on U.S. operators will be $197,340 for the first year ($2,990 for the initial inspection plus $194,350 for the repetitive inspections ($747.50 each day and assuming each helicopter is flown 260 days per year)).

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2003-SW-46-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2004-13-26 Kaman Aerospace Corporation: Amendment 39-13708. Docket No. 2003-SW-46-AD.

Applicability: Model K-1200 helicopters, certificated in any category.

Compliance: Required as indicated.

To prevent failure of a blade grip, blade contact with the opposite rotor mast, blade failure, and loss of control of the helicopter, accomplish the following:

(a) Before further flight, unless accomplished previously, remove the paint topcoat and primer from each blade grip; and using a light and 10x power or higher magnifying glass, visually inspect each blade grip in accordance with the Accomplishment Instructions, paragraph 1. and 2.a., of Kaman Aerospace Corporation Service Bulletin No. 109, dated October 31, 2003 (SB).

Note: Do not damage or remove the sealant around the blade grip bolt heads and nuts.

(1) If a crack is detected, remove the grip and replace it with an airworthy grip.

(2) If no crack is detected, cover the exposed area with corrosion preventative compound.

(b) Before the first flight of each day, remove corrosion preventative compound from each blade grip using acetone. Using a light and 10x power or higher magnifying glass, visually inspect each blade grip for a crack in the area depicted in Figure 1 of the SB.

(1) If a crack is detected, remove the grip and replace it with an airworthy grip.

(2) If no crack is detected, cover the exposed area with corrosive preventative compound.

(c) To request a different method of compliance or a different compliance time for this AD, follow the procedures in 14 CFR 39.19. Contact the Safety Management Group, Rotorcraft Directorate, FAA, for information about previously approved alternative methods of compliance.

(d) Special flight permits will not be issued.

(e) The inspections shall be done in accordance with Kaman Aerospace Corporation Service Bulletin No. 109, dated October 31, 2003. This incorporation by reference was approved by the Director of the Federal Register in accordance with 5 U.S.C. 552(a) and 1 CFR part 51. Copies may be obtained from Kaman Aerospace Corporation, P.O. Box 2, Old Windsor Rd., Bloomfield, CT 06002-0002, telephone (888) 626-KMAX (5629), fax (880) 243-7047. Copies may be inspected at the FAA, Office of the Regional Counsel, Southwest Region, 2601 Meacham Blvd., Room 663, Fort Worth, Texas; or at the National Archives and Records Administration (NARA). For information on the availability of this material at NARA, call 202-741-6030, or go to: http://www.archives.gov/federal_register/code_of_federal_regulations/ibr_locations.html.

(f) This amendment becomes effective on July 22, 2004.

Issued in Fort Worth, Texas, on June 24, 2004.
Kim Smith,
Acting Manager, Rotorcraft Directorate, Aircraft Certification Service.

[FR Doc. 04-15127 Filed 7-6-04; 8:45 am]

BILLING CODE 4910-13-P